DEPARTMENT OF THE INTERIOR

National Park Service

[NPS-WASO-NAGPRA-NPS0032883; PPWOCRADN0-PCU00RP14.R50000]

Notice of Inventory Completion: University of California, Santa Barbara, Santa Barbara, CA

AGENCY: National Park Service, Interior.

ACTION: Notice.

SUMMARY: The University of California, Santa Barbara (U.C. Santa Barbara) has completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to U.C. Santa Barbara. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to U.C. Santa Barbara at the address in this notice by November 29, 2021.

FOR FURTHER INFORMATION CONTACT: Dr. Douglas Kennett, University of California, Santa Barbara, CA 93106-3210, telephone (805) 893-3456, email kennett@anth.ucsb.edu.

SUPPLEMENTARY INFORMATION: Notice is here given in accordance with the Native American Graves Protection and Repatriation Act (NAGPRA), 25 U.S.C. 3003, of the completion of an inventory of human remains and associated funerary objects under the control of the University of California, Santa Barbara, Santa Barbara, CA. The human remains and associated funerary objects were removed from Santa Barbara County, CA.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the University of California, Santa Barbara Repository for Archaeological and Ethnographic Collections professional staff in consultation with representatives of the Santa Ynez Band of Chumash Mission Indians of the Santa Ynez Reservation, California, as well as three non-federally recognized Indian groups, namely the Barbareño Band of Chumash Indians, the Barbareño/Ventureño Band of Mission Indians, and the Northern Chumash Tribe (hereafter referred to as “The Consulted Tribe and Groups”).

History and Description of the Remains

In 1950, human remains representing, at minimum, 13 individuals were removed from site CA-SBA-205 in Santa Barbara County, CA (Accession 245). The site was excavated under the direction of Norman Gabel (U.C. Santa Barbara) and Donald W. Lathrap (U.C. Berkeley). In February 1979, the collection was received by U.C. Santa Barbara and assigned Accession 245. In June 2015, the County of Santa Barbara relinquished legal control of Accession 245 to U.C. Santa Barbara. The age of the human remains is unknown, but various materials from CA-SBA-205 date from approximately 4000 to 170 BP. The human remains represent one unaged male adult, three unaged female adults, five unaged adults of unknown sex, one 18-year-old male, two children, and one 12-month-old infant. No known individuals were identified. The five associated funerary objects are one pestle and four chipped stone flakes.

Sometime prior to 1983, human remains representing, at minimum, one individual were donated to U.C. Santa Barbara (Accession 248-6). Although the age and provenience of the human remains are unknown, based on the collecting history of U.C. Santa Barbara, the human remains most likely derive from a Chumash site in Santa Barbara County, CA. “Burial 3” is written on the sacrum. The human remains represent a single, mature/old adult male. No known individual was identified. The four associated funerary objects are four pieces of wood.

Sometime prior to 1983, human remains representing, at minimum, eight individuals were donated to U.C. Santa Barbara (Accession 248-23). The human remains were collected on Santa Rosa Island, possibly during construction in 1954, and were given to the Biological Sciences Department at U.C. Santa Barbara. In August of 1983, the human remains were donated to the Department of Anthropology. Although the age of the human remains is unknown, based on the provenience information and on osteological analyses, the human remains are most likely Chumash. The human remains represent three adults and five children of unknown sex. No known individuals were identified. The two associated funerary objects are two abalone shells.

Determinations Made by the University of California, Santa Barbara

Officials of the University of California, Santa Barbara have determined that:

• Pursuant to 25 U.S.C. 3001(9), the human remains described above represent the physical remains of 22 individuals of Native American ancestry.

• Pursuant to 25 U.S.C. 3001(3)(A), the 11 objects described above are reasonably believed to have been placed with or near individual human remains at the time of death or later as part of the death rite or ceremony.

• Pursuant to 25 U.S.C. 3001(2), there is a relationship of shared group identity that can be reasonably traced between the Native American human remains and associated funerary objects, and the Santa Ynez Band of Chumash Mission Indians of the Santa Ynez Reservation, California.

Additional Requestors and Disposition

Lineal descendants or representatives of any Indian Tribe or Native Hawaiian organization not identified in this notice that wish to request transfer of control of these human remains and associated funerary objects should submit a written request with information in support of the request to Dr. Douglas Kennett, University of California, Santa Barbara, CA 93106-3210, telephone (805) 893-3456, email kennett@anth.ucsb.edu, by November 29, 2021. After that date, if no additional requestors have come forward, transfer of control of the human remains and associated funerary objects to the Santa Ynez Band of Chumash Indians of the Santa Ynez Reservation, California may proceed.

The University of California, Santa Barbara is responsible for notifying The Consulted Tribe and Groups that this notice has been published.

Dated: October 14, 2021.
Melanie O'Brien,
Manager, National NAGPRA Program.

[FR Doc. 2021-23491 Filed 10-27-21; 8:45 am]

BILLING CODE 4312-52-P